DEPARTMENT OF ENERGY

Federal Energy Regulatory Commission

[Docket Nos. CP13-36-000, CP13-132-000]

Transcontinental Gas Pipe Line Company; Notice of Availability of the Final Environmental Impact Statement for the Proposed Rockaway Delivery Lateral and Northeast Connector Projects

The staff of the Federal Energy Regulatory Commission (FERC or Commission) has prepared this final environmental impact statement (EIS) for the Rockaway Delivery Lateral Project and Northeast Connector Project (collectively referred to as the Projects) as proposed by Transcontinental Gas Pipe Line Company (Transco) in the above-referenced dockets. For the Rockaway Delivery Lateral Project, Transco requests authorization to expand its natural gas pipeline system in New York to provide firm delivery lateral service of 647 thousand dekatherms per day (Mdth/d) of natural gas to National Grid's distribution system in New York City. For the Northeast Connector Project, Transco proposes to modify existing compressor station facilities along its existing pipeline system in Pennsylvania and New Jersey to provide 100 Mdth/d of new incremental natural gas supply to National Grid, as part of the 647 Mdth/d to be provided by the Rockaway Delivery Lateral Project. The Northeast Connector Project would be operationally dependent on the Rockaway Delivery Lateral Project with similar construction and in-service schedules.

The final EIS assesses the potential environmental effects of construction and operation of the Projects in accordance with the requirements of the National Environmental Policy Act (NEPA). The FERC staff concludes that approval of the Projects would have some adverse environmental impacts, but these impacts would be reduced to less-than-significant levels with the implementation of Transco's proposed mitigation and the additional measures recommended in the final EIS.

The National Park Service; U.S. Environmental Protection Agency; U.S. Army Corps of Engineers, New York District; National Oceanic and Atmospheric Administration, National Marine Fisheries Service; and City of New York participated as cooperating agencies in the preparation of the final EIS. Cooperating agencies have jurisdiction by law or special expertise with respect to resources potentially affected by a proposal and participate in the NEPA analysis. While the conclusions and recommendations presented in the final EIS were developed with input from the cooperating agencies, the federal cooperating agencies will present their own conclusions and recommendations in their respective Records of Decision for the Projects.

The final EIS addresses the potential environmental effects of construction and operation of the facilities proposed by Transco for the Projects. For the Rockaway Delivery Lateral Project, these facilities include:

• Approximately 3.2 miles of new 26-inch-diameter pipeline to deliver natural gas from Transco's existing Lower New York Bay Lateral (LNYBL) in the Atlantic Ocean to an onshore tie-in with the National Grid system on the Rockaway Peninsula in the Borough of Queens, Queens County, New York; and

• an onshore meter and regulating (M&R) facility to be built in the Borough of Brooklyn, Kings County, New York.

Approximately 2.6 miles of the proposed pipeline would be constructed offshore on submerged lands owned by New York State. About 0.6 mile of the pipeline would be built on federal lands, both onshore and offshore, within the Gateway National Recreation Area, which is administered by the National Park Service. Less than 0.1 mile of the pipeline would be built on land owned by the Triborough Bridge and Tunnel Authority.

The M&R facility would be constructed within a historic airplane hangar complex on Floyd Bennett Field, which is part of the Gateway National Recreation Area. Floyd Bennett Field is listed in the National Register of Historic Places as a historic district, and the hangar complex is considered a contributing element to the significance of the site. Transco is proposing to adaptively reuse and restore the hangar complex to an exterior appearance that would enhance the visual characteristics of Floyd Bennett Field Historic District.

For the Northeast Connector Project, Transco proposes to:

• Add an incremental 6,540 horsepower (hp) of compression at its existing Compressor Station 195 in York County, Pennsylvania by replacing three existing natural gas-fired reciprocating engines and appurtenant facilities with two new electric motor drives;

• add an incremental 5,000 hp of compression at its existing Compressor Station 205 in Mercer County, New Jersey by uprating two existing electric motor drives; and

• add an incremental 5,400 hp of compression at its existing Compressor Station 207 in Middlesex County, New Jersey by uprating two existing electric motor drives.

These modifications would occur on lands owned by Transco within the existing compressor station sites.

The FERC staff mailed copies of the final EIS to federal, state, and local government representatives and agencies; elected officials; environmental and public interest groups; Native American tribes; potentially affected landowners; other interested individuals and non-governmental organizations; newspapers and libraries in the project area; and parties to this proceeding. Paper copy versions of this EIS were mailed to those specifically requesting them; all others received a compact disk version. In addition, the final EIS is available for public viewing on the FERC's Web site (www.ferc.gov). A limited number of hardcopies are available for distribution and public inspection at: Federal Energy Regulatory Commission, Public Reference Room, 888 First Street NE., Room 2A, Washington, DC 20426, (202) 502-8371.

Additional information about the Projects is available from the Commission's Office of External Affairs, at (866) 208-FERC, or on the FERC Web site (www.ferc.gov) using the eLibrary link. Click on the eLibrary link, click on “General Search,” and enter the docket number excluding the last three digits (i.e., CP13-36). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: February 28, 2014.
Kimberly D. Bose,
Secretary.

[FR Doc. 2014-05119 Filed 3-7-14; 8:45 am]

BILLING CODE 6717-01-P